DEPARTMENT OF TRANSPORTATION

Federal Aviation Administration

14 CFR Part 39

[Docket No. 2003-NM-244-AD; Amendment 39-13661; AD 2004-12-02]

RIN 2120-AA64

Airworthiness Directives; Raytheon Model BAe.125 Series 800A, 800A (C-29A), and 800B Airplanes; and Model Hawker 800 Airplanes

AGENCY: Federal Aviation Administration, DOT.

ACTION: Final rule.

SUMMARY: This amendment adopts a new airworthiness directive (AD), applicable to certain Raytheon Model BAe.125 series 800A, 800A (C-29A), and 800B airplanes; and Model Hawker 800 airplanes, that requires a one-time inspection of certain wire bundles for discrepancies and related corrective action. This action is necessary to find and fix chafing and damage to the wire bundles, which could result in electrical arcing and heat damage in a potential fuel zone and possible fire or explosion in the fuel tank. This action is intended to address the identified unsafe condition.

DATES: Effective July 14, 2004.

The incorporation by reference of certain publications listed in the regulations is approved by the Director of the Federal Register as of July 14, 2004.

ADDRESSES: The service information referenced in this AD may be obtained from Raytheon Aircraft Company, Department 62, P.O. Box 85, Wichita, Kansas 67201-0085. This information may be examined at the Federal Aviation Administration (FAA), Transport Airplane Directorate, Rules Docket, 1601 Lind Avenue, SW., Renton, Washington; or at the FAA, Wichita Aircraft Certification Office, 1801 Airport Road, Room 100, Mid-Continent Airport, Wichita, Kansas; or at the National Archives and Records Administration (NARA). For information on the availability of this material at NARA, call (202) 741-6030, or go to: http://www.archives.gov/federal_register/code_of_federal_regulations/ibr_locations.html.

FOR FURTHER INFORMATION CONTACT: Philip Petty, Aerospace Engineer, Systems and Propulsion Branch, ACE-116W, FAA, Wichita Aircraft Certification Office, 1801 Airport Road, Room 100, Mid-Continent Airport, Wichita, Kansas 67209; telephone (316) 946-4139; fax (316) 946-4107.

SUPPLEMENTARY INFORMATION: A proposal to amend part 39 of the Federal Aviation Regulations (14 CFR part 39) to include an airworthiness directive (AD) that is applicable to certain Raytheon Model BAe.125 series 800A, 800A (C-29A), and 800B airplanes; and Model Hawker 800 airplanes was published in the Federal Register on March 25, 2004 (69 FR 15264). That action proposed to require a one-time inspection of certain wire bundles for discrepancies and related corrective action.

Comments

We provided the public the opportunity to participate in the development of this AD. No comments have been submitted on the proposed AD or on the determination of the cost to the public.

Conclusion

We have carefully reviewed the available data and determined that air safety and the public interest require adopting the AD as proposed.

Cost Impact

There are about 184 airplanes of the affected design in the worldwide fleet. We estimate that 110 airplanes of U.S. registry will be affected by this AD, that it will take about 1 work hour per airplane to accomplish the inspection, and that the average labor rate is $65 per work hour. Based on these figures, the cost impact of the inspection required by this AD on U.S. operators is estimated to be $7,150, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-12-02 Raytheon Aircraft Company: Amendment 39-13661. Docket 2003-NM-244-AD.

Applicability: Model BAe.125 series 800A, 800A (C-29A), and 800B airplanes; and Model Hawker 800 airplanes, as listed in Raytheon Service Bulletin SB 24-3588, Revision 1, dated September 2003; certificated in any category.

Compliance: Required as indicated, unless accomplished previously.

To find and fix chafing and damage to certain wire bundles, which could result in electrical arcing and heat damage in a potential fuel zone and possible fire or explosion in the fuel tank, accomplish the following:

One-Time Inspection/Corrective Action

(a) Within 125 flight hours or 90 days after the effective date of this AD, whichever is first: Do a one-time detailed inspection for discrepancies of the wire bundles extending from relays ‘JT’ and ‘KT’ on Panel ‘JA,’ and the wire bundle entering pressure bung ‘DD’; and do any related corrective action; by doing all the actions per Part 3.A. of the Accomplishment Instructions of Raytheon Service Bulletin SB 24-3588, Revision 1, dated September 2003. Do any related corrective action before further flight.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Inspections/Corrective Action Accomplished Per Previous Issue of Service Bulletin

(b) Inspections and corrective action accomplished before the effective date of this AD per Raytheon Service Bulletin SB 24-3588, dated February 2003, are considered acceptable for compliance with the corresponding actions specified in this AD.

Alternative Methods of Compliance

(c) In accordance with 14 CFR 39.19, the Manager, Wichita Aircraft Certification Office, FAA, is authorized to approve alternative methods of compliance (AMOCs) for this AD.

Incorporation by Reference

(d) Unless otherwise provided in this AD, the actions shall be done in accordance with Raytheon Service Bulletin SB 24-3588, Revision 1, dated September 2003. This incorporation by reference was approved by the Director of the Federal Register in accordance with 5 U.S.C. 552(a) and 1 CFR part 51. Copies may be obtained from Raytheon Aircraft Company, Department 62, P.O. Box 85, Wichita, Kansas 67201-0085. Copies may be inspected at the FAA, Transport Airplane Directorate, 1601 Lind Avenue, SW., Renton, Washington; or at the FAA, Wichita Aircraft Certification Office, 1801 Airport Road, Room 100, Mid-Continent Airport, Wichita, Kansas; or at the National Archives and Records Administration (NARA). For information on the availability of this material at NARA, call (202) 741-6030, or go to: http://www.archives.gov/federal_register/code_of_federal_regulations/ibr_locations.html.

Effective Date

(e) This amendment becomes effective on July 14, 2004.

Issued in Renton, Washington, on May 28, 2004.
Kevin M. Mullin,
Acting Manager, Transport Airplane Directorate, Aircraft Certification Service.

[FR Doc. 04-12821 Filed 6-8-04; 8:45 am]

BILLING CODE 4910-13-P